DEPARTMENT OF VETERANS AFFAIRS

38 CFR Part 4

RIN 2900-AQ43

Schedule for Rating Disabilities: Infectious Diseases, Immune Disorders, and Nutritional Deficiencies

AGENCY: Department of Veterans Affairs.

ACTION: Proposed rule; correction.

SUMMARY: The Department of Veterans Affairs (VA) is correcting a proposed rule to amend the section of the VA Schedule for Rating Disabilities (VASRD or Rating Schedule) that addresses infectious diseases and immune disorders. This correction addresses minor technical errors in the proposed rule published February 5, 2019.

DATES: February 12, 2019.

FOR FURTHER INFORMATION CONTACT: Ioulia Vvedenskaya, M.D., M.B.A., Medical Officer, Part 4 VASRD Regulations Staff (211C), Compensation Service, Veterans Benefits Administration, Department of Veterans Affairs, 810 Vermont Avenue NW, Washington, DC 20420, (202) 461-9700. (This is not a toll-free telephone number.)

SUPPLEMENTARY INFORMATION: VA is correcting its proposed rule, Schedule for Rating Disabilities: Infectious Diseases, Immune Disorders, and Nutritional Deficiencies, that published February 5, 2019, in the Federal Register at 84 FR 1678.

Corrections

In proposed rule FR Doc. 2019-00636 beginning on page 1678 in the issue of February 5, 2019, make the following corrections.

1. On page 1689, beginning in the first column, correct amendatory instruction number 5 to read as follows:

5. Amend appendix B to part 4 by:

a. Revising the entries for diagnostic codes 6300 and 6305;

b. Adding in numerical order an entry for diagnostic code 6312;

c. Revising the entry for diagnostic code 6317;

d. Adding in numerical order entries for diagnostic codes 6325, 6326, 6329 through 6331, and 6333 through 6335; and

e. Revising the entry for diagnostic code 6354.

The revisions and additions read as follows:

2. On page 1689, in the amendatory text for Appendix B to Part 4, remove the diagnostic code “6351 HIV-related infection” and correct the diagnostic code “6356” to read “6354”.

3. On page 1690, in the amendatory table for Appendix C to Part 4, the entry “Nontuberculosis mycobacterial infection-Diagnostic code 6312 should be listed before Nontyphoid salmonella infection Diagnostic code 6333”.

Approved: February 7, 2019.
Jeffrey M. Martin,
Assistant Director, Office of Regulation Policy & Management, Office of the Secretary, Department of Veterans Affairs.

[FR Doc. 2019-01985 Filed 2-11-19; 8:45 am]

BILLING CODE 8320-01-P